FEDERAL RESERVE SYSTEM

[Docket No. OP-1165]

Federal Reserve Bank Services

AGENCY: Board of Governors of the Federal Reserve System.

ACTION: Notice.

SUMMARY: The Board has approved the 2004 fee schedules for Federal Reserve priced services and electronic connections and a private-sector adjustment factor (PSAF) for 2004 of $179.7 million. These actions were taken in accordance with the requirements of the Monetary Control Act of 1980, which requires that, over the long run, fees for Federal Reserve priced services be established on the basis of all direct and indirect costs, including the PSAF. The Board has also approved changing the earnings credit rate on clearing balances from the federal funds rate to 90 percent of the three-month Treasury bill rate, and changing the limit on the frequency of changes to contracted clearing balances from once per month to as often as each maintenance period.

DATES: The new fee schedules become effective January 2, 2004. The change in the earnings credit rate on clearing balances, and the change to how often depository institutions can change contracted clearing balances becomes effective January 8, 2004.

FOR FURTHER INFORMATION CONTACT: For questions regarding the fee schedules: Jack K. Walton II, Assistant Director, (202/452-2660); Gregory E. Cannella, Financial Services Analyst, (202/530-6214), Division of Reserve Bank Operations and Payment Systems. For questions regarding the PSAF and earnings credits on clearing balances: Lezell Murphy, Senior Financial Analyst, (202/452-3758); or Brenda Richards, Senior Financial Analyst, (202/452-2753); or Gregory Evans, Manager, Financial Accounting, (202/452-3945), Division of Reserve Bank Operations and Payment Systems. For users of Telecommunications Device for the Deaf (TDD) only, please call 202/452-3544. Copies of the 2004 fee schedules for the check service are available from the Board, the Federal Reserve Banks, or the Reserve Banks' financial services Web site at http://www.frbservices.org.

SUPPLEMENTARY INFORMATION:

I. Priced Services

A. Discussion—From 1993 through 2002, the Reserve Banks recovered 98.8 percent of their total costs for providing priced services, including special project costs, imputed expenses, and targeted after-tax profits or return on equity (ROE).¹

¹ These imputed expenses, such as taxes that would have been paid, and the return on equity that would have to be earned had the services been furnished by a private business firm, are referred to as the private-sector adjustment factor (PSAF). The ten-year recovery rate is based upon the pro forma income statements for Federal Reserve Banks' priced services published in the Board's Annual Report. Beginning in 2000, the PSAF has included additional financing costs associated with pension assets attributable to priced services. This ten-year cost recovery rate has been computed as if these costs were not included in the PSAF calculations prior to 2000. If these costs were included in the calculations, and assuming that the Reserve Banks would not have made any contemporaneous cost or revenue adjustments, the 10-year recovery rate would be 97.8 percent.

Table 1 summarizes the priced services' actual, estimated, and budgeted cost recovery rates for 2002, 2003, and 2004, respectively. Cost recovery is estimated to be 85.6 percent in 2003 and budgeted to be 93.6 percent in 2004. The aggregate cost recovery rates are heavily influenced by the performance of the check service, which accounts for approximately 83 percent of the total cost of priced services. The electronic services (FedACH, Fedwire funds and national settlement (NSS), and Fedwire securities) account for approximately 17 percent of costs, while noncash and special cash services represent a de minimis amount.

Table 2 presents an overview of the 2002, 2003 budget, 2003 estimate, and 2004 budget cost recovery performance by category of major priced service.

1. 2003 Estimated Performance—In 2003, the Reserve Banks estimate that they will recover 85.6 percent of the costs of providing priced services, compared with the budgeted recovery rate of 93.7 percent. The Reserve Banks do not expect to recover fully actual and imputed expenses, incurring an overall net loss of $44.4 million, which is $87.3 million less than the budgeted net income of $42.9 million. This shortfall is largely driven by lower-than-expected net income from clearing balances (NICB) and increased pension costs, as well as lower-than-expected check service revenues and one-time costs associated with check restructuring.²

² The Reserve Banks' check restructuring initiative will reduce Federal Reserve check processing locations from 45 to 32 sites and will streamline check adjustments by 2004. (See http://www.frbservices.org/Retail/pdf/CheckRestructure-CustomerLetter.pdf.)

Two primary factors are contributing to the check service's underrecovery. First, higher-than-anticipated volume declines, as well as a shift by customers to lower priced check products as a result of low interest rates, have resulted in check service operating revenues in 2003 running $26.9 million below budget. The Federal Reserve System's recent retail payments research, along with more recent anecdotal information from the industry, indicates that check use in the United States is continuing to decline.³ The deterioration in the Reserve Banks' check volume is consistent with this nationwide trend. Second, while the Reserve Banks have reduced operating costs in response to the volume declines, one-time costs associated with the check restructuring initiative have contributed to significantly lower-than-budgeted check service cost recovery.

³ See Gerdes, Geoffrey R. and Jack K. Walton II, “The Use of Checks and Other Noncash Payment Instruments in the United States,” Federal Reserve Bulletin, August 2002, pp. 360-374. (See http://www.federalreserve.gov/pubs/bulletin/default.htm.)

2. 2004 Projected Performance—For 2004, the Reserve Banks project a priced services cost recovery rate of 93.6 percent, with net income of $48.2 million, as compared to target net income of $112.4 million. The primary factors affecting 2004 cost recovery are the one-time costs associated with planned and potential further restructuring of the Reserve Banks' check operations and the continued decline in check volume.

The primary risks to the Reserve Banks' ability to achieve their budget targets are greater-than-expected costs associated with the restructuring initiative and a steeper decline in the Reserve Banks' check volume than the projected 8.9 percent decrease. Additionally, the Check Clearing for the 21st Century Act (Check 21) presents risk to existing volumes, pricing, and product strategies. To address the continuing decline in check volumes, the Reserve Banks will continue to implement a business and operational strategy that will improve efficiency, reduce excess capacity and other costs, and position the service to achieve its financial and payment system objectives over the long term.

3. 2004 Pricing—The following summarizes the Reserve Banks” changes in fee structures and levels for priced services in 2004, along with an indication of overall experience with prices in each service line since 1996:⁴

⁴ Data elements used in calculating the price index for 2002 and prior years include explicit fee revenue from priced services and volumes associated with those services. For 2003 and 2004, the year-over-year percentage changes are based on comparisons of the 2002 results, 2003 estimates, and 2004 projections.

Check

• The Reserve Banks will raise fees for forward-collection check products 5.8 percent, return check products 6.1 percent, and payor bank check products 0.7 percent compared with January 2003 fees.

• The price index for the check service has increased about 37 percent since 1996.

FedACH

• The Reserve Banks will reduce the input file processing fee from $5.00 to $3.75, and will retain all other fees at their current levels.

• The price index for the FedACH service has decreased about 66 percent since 1996.

Fedwire Funds and National Settlement

• The Reserve Banks will retain fees at their current levels.

• The price index for the Fedwire funds and national settlement service has decreased about 62 percent since 1996.

Fedwire Securities

• The Reserve Banks will reduce the on-line transfer origination and receipt fee from $0.40 to $0.32 and will reduce the claim adjustment fee from $0.38 to $0.30. The Reserve Banks will increase the off-line surcharge from $25 to $28 and will increase the joint custody surcharge from $22 to $30. The Reserve Banks will retain all other fees at their current levels.

• The price index for the Fedwire securities service has decreased about 39 percent since 1996.

4. 2003 Price Index—Figure 1 compares indices of fees for the Federal Reserve's priced services with the GDP price deflator. Since 1995, the price index for all priced services has increased a total of about 3.6 percent. The price index for electronic payment services (FedACH, Fedwire funds and national settlement, Fedwire securities, and electronic check products), as well as electronic access to Federal Reserve Banks' priced services, is projected to decrease 1.2 percent in 2004. The price index for paper-based payment services (check and noncash collection) is expected to increase about 5.9 percent in 2004. Compared with the price index for 2003, the price index for all Federal Reserve Bank priced services is projected to increase approximately 3.9 percent in 2004.

B. Earnings Credits on Clearing Balances—The Board has approved changing the rate used in calculating earnings credits on clearing balances from the federal funds rate to 90 percent of the three-month Treasury bill rate, effective January 8, 2004. The “marginal reserve requirement” adjustment in the earnings credit calculation will continue to be made using the federal funds rate.

Clearing balances were introduced in 1981, as a part of the Board's implementation of the Monetary Control Act, to facilitate the access to Federal Reserve priced services by institutions that either did not have an account at a Reserve Bank or did not have a sufficient required reserve balance to support the settlement of their payment transactions. Reserve Banks have calculated earnings credits based on the effective federal funds rate since the inception of the clearing balance program over twenty years ago. Earnings credits can be used only to offset charges for priced services, are calculated monthly, and expire if not used within one year.⁵

⁵ A band is established around the contracted clearing balance to determine the maximum balance on which credits are earned as well as any deficiency charges. The clearing balance allowance is 2 percent of the contracted amount, or $25,000, whichever is greater. Earnings credits are based on the period-average balance maintained up to a maximum of the contracted amount plus the clearing balance allowance. Deficiency charges apply when the average balance falls below the contracted amount less the allowance, although credits are still earned on the average maintained balance.

The most common practice at private-sector correspondent banks is to calculate earnings credits on compensating balances using a rate discounted from the lagged three-month Treasury bill rate. Discounts are expressed either as a percentage reduction or a level (basis-point) reduction from the base rate. Even so, almost one-quarter of large correspondent banks no longer explicitly tie the earnings credit rate to an external benchmark. Correspondent banks generally do not establish required compensating balance levels and they generally do not allow earning credits to accumulate to future months, like the Federal Reserve.⁶ Earnings credits on balances held at correspondent banks generally must be used in the month earned.

⁶ A minimum balance may be established in specific cases, depending on the creditworthiness of the customer.

Under current procedures, the earnings credits on clearing balances held at the Federal Reserve are based on the average effective federal funds rate, the average clearing balance maintained, the imputed reserve requirement adjustment, and the marginal reserve requirement. These two adjustments are applied so that the return on clearing balances at the Federal Reserve is comparable to what the depository institution would have earned had it maintained the same balance at a private-sector correspondent.⁷

⁷ The “imputed reserve requirement” adjustment is made because a private-sector correspondent would be required to hold reserves against the respondent's balance with it. As a result, the correspondent would reduce the balance on which it would base earnings credits for the respondent because it would be required to hold a portion, determined by its marginal reserve ratio, in the form of non-interest-bearing reserves. For example, if a depository institution held $1 million in clearing balances with correspondent bank and the correspondent had a marginal reserve ratio of 10 percent, then the correspondent bank would be required to hold $100,000 in reserves, and it would grant credits to the respondent based on 90 percent of the balance, or $900,000. This adjustment imputes a marginal reserve ratio of 10 percent to the Reserve Bank.

The “marginal reserve requirement” adjustment accounts for the fact that the respondent can deduct balances maintained at a correspondent, but not the Federal Reserve, from its reservable liabilities. This reduction has value to the respondent when it frees up balances that can be invested in interest-bearing instruments, such as a federal funds. For example, a respondent placing $1 million with a correspondent rather than the Federal Reserve would free up $30,000 if its marginal reserve ratio were 3 percent.

The formula used by the Reserve Banks to calculate earnings credits can be expressed as e = [ b * (1-FRR) * r] + [ b * (MRR) * f] where e is total earnings credits, b is the average clearing balance maintained, FRR is the assumed Reserve Bank marginal reserve ratio (10 percent), r is the earnings credit rate (currently equal to f), MRR is the marginal reserve ratio of the depository institution holding the balance (either 0 percent, 3 percent, or 10 percent) and f is the average federal funds rate. A depository institution that meets its reserve requirement entirely with vault cash is assigned a marginal reserve requirement of zero.

By using the federal funds rate, the Reserve Banks are calculating earnings credits using a rate that is higher than typical market practice. The Reserve Banks could better align their rates with those of the marketplace and lower their cost of clearing balances, which must be recovered via fees, by changing to a Treasury-bill-based rate. The Board has approved that the earnings credit rate be changed to 90 percent of a rolling 13-week average of the annualized coupon equivalent yield of three-month Treasury bills in the secondary market to better align Federal Reserve policy with market practice.

The Board also approved changing its policy on the frequency with which depository institutions can change their contracted clearing balances. The new policy will permit changes more frequently, as often as each maintenance period. Under this new policy, any change would still need to be made before the beginning of the reserve maintenance period to which it applies. Advance agreement on the amount of the contracted balance ensures that variations in contracted clearing balances are not a source of uncertainty for the conduct of open market operations during a reserve maintenance period. Depository institutions, through the Reserve Banks, have expressed interest over the years in being able to make more frequent changes to their contracted level.

C. Check—Table 3 below shows the 2002, 2003 estimate, and 2004 budgeted cost recovery performance for the check service.

1. 2002 Performance—The check service recovered 91.7 percent of total costs in 2002, including imputed expenses, and a portion of targeted ROE, which was less than the targeted recovery rate of 95.5 percent. The volume of checks collected decreased 1.9 percent from 2001, consistent with nationwide trends away from the use of paper checks and toward greater use of electronic payment methods. Revenue fell from 2001 levels primarily due to declining volume combined with a customer shift to lower priced products. Customer demand for these lower priced products grew and the value of premium priced accelerated availability products diminished as interest rates declined. Revenue was $44.3 million less than budget. Costs were $13.6 million less than budget due to local cost reductions, which were largely offset by lower-than-budgeted pension credits.

2. 2003 Estimate—Through August 2003, the check service has recovered 84.3 percent of total costs, including imputed expenses, and targeted ROE. For the full year, the Reserve Banks do not expect to recover fully their costs of providing check services. Specifically, the Reserve Banks estimate that the check service will recover 83.2 percent of its total costs for the full year compared with the budgeted 2003 recovery rate of 92.5 percent, for an operating loss of $61.2 million. The lower-than-budgeted recovery rate is driven by lower-than-anticipated NICB and pension credits, which account for $59.4 million of the financial shortfall. Additional contributing factors include costs of $39.0 million associated with the check restructuring and check modernization initiatives that were not included in the original budget, and less-than-budgeted operating revenue of $26.9 million.⁸ The service revenue shortfall reflects a continued trend of customers towards the use of lower priced products, which are more attractive in a low interest rate environment. The budget variances are summarized in table 4.

⁸ The check modernization initiative, which is largely completed, is comprised of four individual projects to standardize the Reserve Banks' hardware and software platforms for check processing and adjustments, for check imaging and archiving, and to develop a Web-based delivery platform.

The volume of checks handled by the Reserve Banks has declined (as shown in table 5), reflecting the broader market trend in which the use of checks continues to decline. Forward-collection check product volume through August, excluding electronic fine sort volume, declined 4.8 percent.⁹ For the full year 2003, the Reserve Banks estimate that forward-collection volume will decline 4.8 percent, compared with a budgeted decline of 1.9 percent. Return check volume has increased 0.4 percent through August 2003. The Reserve Banks, however, anticipate that return check volume will decline 0.2 percent for the full year, compared with a budgeted decline of 3.3 percent.

⁹ Two Reserve Banks offer an electronic fine-sort product, which allows depository institutions to exchange fine-sort information electronically between themselves with paper checks to follow.

Electronic check presentment volumes are projected to decline for full-year 2003, as summarized in table 6. Reserve Banks provide paying banks with electronic check data or images for approximately 40 percent of the checks they collect. Image volumes are projected to increase 8.8 percent to approximately 1.5 billion check images, which represent about 9.8 percent of all checks collected by the Reserve Banks. While the total number of images increased, the increase was below the budgeted growth rate of 14.9 percent.

3. 2004 Projection—For 2004, the Reserve Banks will focus largely on opportunities to streamline further check processing and adjustment activities across the System. The multi-year check modernization project will be largely completed by the end of 2003 and will result in a standard operating platform in all remaining Reserve Bank check processing offices. In 2004, the Reserve Banks plan to reduce check costs by $21.2 million as the check modernization management and implementation teams are phased out. As the Reserve Banks complete their transitions to the standard check platform, they will reduce operating costs further. For example, through August 2003, the Reserve Banks have reduced check operating costs $13.2 million because of the greater efficiencies resulting from the check modernization projects. In addition to these anticipated cost savings, the transition to a common operating platform also will enable the Reserve Banks to improve their operating efficiency further by providing them with additional flexibility to adjust their check processing infrastructure.

Check restructuring allows the Reserve Banks to address ongoing volume changes by reducing excess capacity across the Federal Reserve System. The Reserve Banks will begin implementing the restructuring initiative this year and will continue the restructuring through 2004. While most of the one-time costs for this initiative will be accrued in 2003, significant costs also will be incurred in 2004. Check restructuring is expected to improve Reserve Bank cost effectiveness over the long term, with the current initiative reducing steady-state production costs by $60 million in 2005. The Reserve Banks will continue to assess the potential for further changes to their check processing infrastructure. Given the expected continued volume decline in the interbank check collection market and the industry's excess processing capacity, the Reserve Banks anticipate further changes to their infrastructure in 2005. As a result, the Reserve Banks' 2004 budget includes the accrual of expenses associated with further changes in their check processing infrastructure in 2005, and potential expenses for operational changes related to Check 21 in 2004. The Reserve Banks are currently developing products as well as making changes to operational workflows to address Check 21.

In addition to the operational initiatives for improving efficiency and reducing ongoing costs, the Reserve Banks will modify the price of selected products in 2004 to enhance service revenue. The Reserve Banks will increase certain fees to collect and return checks drawn on depository institutions that are distant from Federal Reserve check processing offices to reflect the Reserve Banks' costs more accurately in providing these products. Most of the price increases are targeted at markets that have become increasingly costly for the Reserve Banks to service. Depository institutions collecting checks drawn on and returning checks to depository institutions located in these markets may see a substantial increase in their check collection and return fees.

There is also a significant effort in 2004 to continue setting fees to achieve greater pricing consistency for key products across the Reserve Banks. In addition, a number of high-value products have been selected for moderate price increases for 2004. The fee changes will enhance the Reserve Banks' ability to recover costs, while maintaining the competitiveness of these products.

For 2004, the Reserve Banks are targeting an overall price increase of 5.2 percent, as shown in table 7. This increase consists of a 5.8 percent increase in forward check-collection fees, comprised of a 6.9 percent increase in forward cash letter fees and a 5.4 percent increase in per-item fees. Fees for return services will increase by 6.1 percent, which is composed of a 7.5 percent increase in return cash letter fees and a 5.1 percent increase in per-item fees. The average volume-weighted fees for payor bank services will increase 0.7 percent compared with current fees.

Table 8 below summarizes ranges of selected check fees for 2003 and 2004, and shows 2004 price changes in bold type.

4. 2004 Cost Recovery—For 2004, the Reserve Banks project that the check service will recover 91.9 percent of total costs, including imputed expenses, and targeted ROE. The Reserve Banks expect to recover all direct and indirect operating costs and all imputed costs of providing check services, but only a portion of the targeted return on equity.

Total adjusted costs before taxes are projected to decrease approximately $87.1 million, or 9.1 percent, from estimated 2003 expenses. The largest factor contributing to the decline is local operating costs, which are expected to decrease by $64.9 million, or 11.4 percent. This decline reflects significant reductions in personnel costs and partial year savings associated with discontinuing the processing of checks at thirteen Federal Reserve offices. Additional reductions include lower check modernization expenses and the consolidation of some local administrative functions into national support centers.

Total check revenue is projected to increase $31.6 million, or 4.2 percent, compared with the 2003 estimate. The revenue growth is driven largely by a $44.6 million increase in NICB. This increase associated with the change in methodology to calculate imputed investment income and payments of earnings credits to depository institution holders of clearing balances. Partially offsetting this increase is a projected $15.2 million, or 2.1 percent, decline in service revenue. This decline is largely attributable to a projected acceleration of the downward trend in the Reserve Banks' check volumes. The price changes will partially offset the effect of volume losses on check revenue.

In 2004, forward-processed check volume is projected to be 12.8 billion, a decrease of 8.9 percent compared with the 2003 estimate. The overall decline of paper check volume in the United States is the predominant factor for the loss of forward volume; however, the Reserve Banks also are projecting volume losses resulting from check restructuring (which accounts for 2 percentage points of that decline) and price increases. Fine-sort check volume is expected to decline by 8.1 percent from the 2003 estimate. Return volume is projected to decrease by 7.0 percent compared with the 2003 estimate, a somewhat slower rate than forward volume. The difference in the rates of decline for forward and return volumes is a result of an increase in the Reserve Banks' share of the market for returned check processing in 2003 that is expected to continue into 2004.

The Reserve Banks expect a slight decrease in payor bank service volumes. Electronic presentment volume is expected to decline 0.8 percent in 2004. Image volume is projected to grow 5.1 percent in 2004, compared with estimated 2003 volumes. Image volume growth is expected to be driven by the increased functionality of FedImage services (for example, electronic access to archived check images using web technology).

The Board believes that the greatest risks to achieving the projected cost recovery rate for the check service are volume declines and associated revenue losses beyond System budget projections, and greater-than-expected costs associated with the check restructuring initiative.

The Board believes that the cost, volume, and revenue projections are reasonable and has approved the price changes for the Reserve Banks' check service.

D. Automated Clearinghouse (FedACH)—Table 9 below shows the 2002, 2003 estimate, and 2004 budgeted cost recovery performance for the commercial FedACH service.

1. 2002 Performance—In 2002, the FedACH service recovered 104.1 percent of total costs, including imputed expenses, and targeted ROE, compared with a targeted recovery rate of 101.4 percent. The greater-than-budgeted cost recovery was due mainly to higher-than-expected volume. The commercial ACH origination volume processed by the Reserve Banks was 12.1 percent higher than in 2001, compared with the 7.3 percent decrease reflected in the 2002 budget. This reflects lower-than-expected volume shift to a private-sector ACH operator.

2. 2003 Estimate—The Reserve Banks estimate that the FedACH service will recover 101.6 percent of total expenses in 2003, compared with the budgeted recovery rate of 100.3 percent. The greater-than-budgeted cost recovery is attributable mainly to lower-than-expected information technology support costs. Although the Reserve Banks estimate that 2003 volume will be 13.7 percent higher than in 2002, they estimate that revenue will be $3.2 million lower, primarily because of price reductions that became effective January 2, 2003. Through August 2003, the Reserve Banks' FedACH volume has increased 13.2 percent over the same period in 2002.

3. 2004 Pricing—The Reserve Banks project that the FedACH service will recover 101.8 percent of its costs in 2004, including imputed expenses, and targeted ROE. The Reserve Banks are keeping fees unchanged except for a decrease in the input file processing fee from $5.00 to $3.75. Ceteris paribus, the lower per-file fee would reduce the Reserve Banks' FedACH revenue by about $4 million annually. The budgeted $6.2 million increase in revenue reflects 8.7 percent growth in anticipated FedACH processed origination volume, increased electronic connection revenue, and increased NICB as a result of the Reserve Banks' change in the NICB computation methodology. The year-over-year cost increase is due primarily to projects related to FedLine® for the Web and to the development of new FedACH services, including risk management and international ACH services. The Reserve Banks generally believe that nationwide ACH volume will grow somewhat faster than FedACH volume as large depository institutions continue to shift their volume to the other ACH operator.

The Board believes that the cost, volume, and revenue projections are reasonable and has approved the price changes for the Reserve Banks' FedACH service.

E. Fedwire Funds and National Settlement Service—Table 10 below shows the 2002, 2003 estimate, and 2004 budgeted cost recovery performance for the Fedwire funds and national settlement service.

1. 2002 Performance—The Fedwire funds and national settlement service recovered 99.6 percent of total costs in 2002, including imputed expenses, and targeted ROE, less than the budgeted recovery rate of 101.1 percent. Expenses for 2002 were $3.6 million more than original budget projections, primarily because of unbudgeted costs associated with the FedLine for the Web project and a FedLine for Windows write-off. Service revenue was $2.6 million greater than budget.

2. 2003 Estimate—For 2003, the Reserve Banks estimate that the Fedwire funds and national settlement service will recover 98.0 percent of total expenses, including imputed expenses, and target ROE, compared with a budgeted recovery rate of 101.8 percent. The underrecovery is attributed primarily to significantly lower-than-expected pension credits. Funds transfer volume through August 2003 has increased 9.4 percent relative to the same period in 2002. For the full year, the Reserve Banks estimate that volume will increase 7.3 percent compared with 2002, based on the expectation that volume growth will be flat for the remainder of the year. The Reserve Banks had originally projected zero volume growth for 2003, which was based on historical growth levels combined with anticipated losses of volume to a competitor. This shifting of volume to the competitor, however, did not materialize and, in fact, the Reserve Banks gained market share in 2003. With respect to the national settlement service, the Reserve Banks estimate that 2003 volume will be less than budget due to continued consolidations among check clearinghouses.

3. 2004 Pricing—The Reserve Banks are keeping fees for the Fedwire funds and national settlement service unchanged from 2003.

The Reserve Banks project that the Fedwire funds and national settlement service will recover 103.3 percent of total costs in 2004, including imputed expenses, and targeted ROE. Total costs, including imputed expenses, and targeted ROE are expected to increase $5.2 million from the 2003 estimate because of higher costs related to the FedLine for the Web project, higher data communications costs, and a higher PSAF. Funds transfer volume for 2004 is expected to increase 6.8 percent compared with the 2003 estimate. National settlement volume is expected to remain flat. The Reserve Banks project total revenue to increase by $8.2 million over the 2003 estimate primarily because of continued strong volume growth, an increase in NICB attributable to the change in the calculation methodology, and higher electronic access revenue.

The Board believes that the cost, volume, and revenue projections are reasonable and has approved the price changes for the Reserve Banks' Fedwire funds and national settlement service be approved.

F. Fedwire Securities Service—Table 11 below shows the 2002, 2003 estimate, and 2004 budgeted cost recovery performance for the Fedwire securities service.¹⁰

¹⁰ The Reserve Banks provide transfer services for securities issued by the U.S. Treasury, federal government agencies, government-sponsored enterprises, and certain international institutions. The priced component of this service, reflected in this memorandum, consists of revenues, expenses, and volumes associated with the transfer of all non-Treasury securities. For Treasury securities, the U.S. Treasury assesses fees for the securities transfer component of the service. The Reserve Banks assess a fee for the funds settlement component of a Treasury securities transfer; this component is not treated as a priced service.

1. 2002 Performance—The Fedwire securities service recovered 100.1 percent of total costs in 2002, including imputed expenses, and targeted ROE. Total costs and service revenue for 2002 were greater than budget by $1.1 million and $1.0 million, respectively.

2. 2003 Estimate—Through August 2003, the Fedwire securities service recovered 107.4 percent of total costs, including imputed expenses, and targeted ROE. For full-year 2003, the Reserve Banks estimate that the Fedwire securities service will recover 106.0 percent of total costs, compared with a budgeted recovery rate of 100.6 percent. The overrecovery is attributed primarily to higher-than-expected volume growth.

Through August 2003, total Fedwire securities transfer volume has increased 23.7 percent relative to the same period in 2002.¹¹ For the full year, the Reserve Banks estimate that total Fedwire securities volume will increase 21.9 percent from 2002, compared with a budgeted 4.3 percent increase. The significantly higher-than-expected volume growth is due primarily to the continued strength of the residential mortgage financing market. The Reserve Banks expect that volume growth experienced year-to-date will level off in the remaining months of the year.

¹¹ Part of this increase is due to the full-year effect of the addition of Ginnie Mae securities to the Fedwire Securities Service, which was completed in March 2002.

3. 2004 Pricing—The Reserve Banks are reducing the on-line transfer origination and receipt fees from $0.40 to $0.32 and reducing the claim adjustment fee from $0.38 to $0.30.¹² The Reserve Banks will increase the off-line surcharge from $25 to $28 and increasing the joint custody surcharge from $22 to $30. The Reserve Banks will retain all other fees at their current levels.

¹² In 2002, the Reserve Banks implemented a new automated claim adjustment feature for mortgage-backed securities. The automated claim adjustment process (ACAP) supports the settlement of claims related to failed securities transactions, interim accounting for securities with an accrual date different than the record date, and repurchase agreements. ACAP allows participants to add information to transfer messages that the Fedwire securities service can use to calculate cash payments owed to counterparties involved with related transfers.

The Reserve Banks project that the Fedwire securities service will recover 104.7 percent of costs in 2004, including imputed expenses, and targeted ROE. Total costs, including imputed expenses, and targeted ROE are expected to increase $0.7 million from the 2003 estimate.

The Reserve Banks project that total securities volume in 2004 will increase 6.8 percent from the 2003 estimate. Total revenue is projected to increase slightly from the 2003 estimate, as the expected decrease in revenue from price reductions is offset by a higher NICB attributable to the changes in calculation methodology.

The Board believes that the cost, volume, and revenue projections are reasonable and has approved the price changes for the Reserve Banks' Fedwire securities service.

G. Noncash Collection—Table 12 below shows the 2002, 2003 estimate, and 2004 budgeted cost recovery performance for the noncash collection service.

1. 2002 Performance—The noncash collection service recovered 100.6 percent of total expenses in 2002, including imputed expenses, and targeted ROE, exceeding the budgeted recovery rate of 94.3 percent. Volume for 2002 declined 19.2 percent from 2001 levels, as expected.

2. 2003 Estimate—Through August 2003, the noncash collection service recovered 131.5 percent of its costs. For full-year 2003, the Reserve Banks estimate that the noncash collection service will recover 118.9 percent of costs, including imputed expenses, and targeted ROE, compared with the budgeted recovery rate of 110.9 percent. This overrecovery is attributed to higher-than-expected revenues, as volume has not decreased from 2002 as much as anticipated. Noncash volume through August has decreased 13.1 percent compared with volume during the same period in 2002. For the full year, the Reserve Banks estimate that 2003 volume will decrease 18.9 percent from 2002, compared with a budgeted decline of 21.0 percent.

3. 2004 Pricing—The Reserve Banks are keeping fees for the noncash collection service unchanged from 2003. As the number of outstanding physical municipal securities continues to decline, the volume of coupons and bonds presented for collection also will decline. New issues of bearer municipal securities effectively ceased in 1983 after the Tax Equity and Fiscal Responsibility Act of 1982 removed tax advantages for investors. In 2004, the Reserve Banks project that the noncash collection service will recover 113.3 percent of total costs, including imputed expenses, and targeted ROE. The Reserve Banks project that volume will decrease 18.9 percent from the 2003 estimate.

The Board believes that the cost, volume, and revenue projections are reasonable and has approved the price changes for the Reserve Banks' noncash collection service.

H. Special Cash—Special cash services represent a de minimis portion (less than one tenth of one percent) of overall priced services provided by the Reserve Banks to depository institutions. In 2002, special cash services included wrapped coin, nonstandard packaging of currency orders and deposits, and, for part of the year, registered mail shipments of currency and coin. The offices that offered registered mail shipments discontinued this service in mid to late 2002. In 2003, special cash services consisted of wrapped coin for half of the year and nonstandard packaging of currency. The Helena office discontinued its wrapped coin service in June 2003, and the Seventh District will discontinue its nonstandard packaging service in December 2003. With the Helena office and the Seventh District exiting these businesses, the Reserve Banks will not provide any special cash services in 2004. Table 13 below shows 2002 and estimated 2003 cost recovery performance for special cash services.

1. 2002 Performance—Special cash services recovered 94.8 percent of total expenses, including imputed expenses, and targeted ROE in 2002, compared with a targeted recovery rate of 103.4 percent. The underrecovery was due primarily to the Kansas City District and the Helena office discontinuing registered mail shipments of currency earlier than budgeted in 2002, but continued to incur support charges throughout the year.

2. 2003 Estimate—Through August 2003, special cash services has recovered 72.1 percent of total expenses, including imputed expenses, and targeted ROE. For full-year 2003, the Reserve Banks project that special cash services will recover 71.9 percent of costs, compared with a targeted recovery rate of 77.3 percent. Compared with 2002, total expenses are projected to decrease $0.9 million, or 65.6 percent, and revenue is expected to decrease $1.0 million, or 70.5 percent.

3. 2004 Pricing—There is no special cash service planned for 2004, and no costs will be allocated to this service.

II. Private-Sector Adjustment Factor

A. Background—Each year, as required by the Monetary Control Act of 1980, the Reserve Banks set fees for priced services provided to depository institutions. These fees are set to recover, over the long run, all direct and indirect costs and imputed costs, including financing costs, taxes, and certain other expenses that would have been incurred, as well as return on equity (profit) that would have been earned, if a private business firm provided the services. These imputed costs are based on data developed in part from a model comprising consolidated financial data for the nation's fifty largest bank holding companies (BHCs).¹³ The imputed costs and imputed profit are collectively referred to as the PSAF. In a comparable fashion, investment income is imputed and netted with related direct costs associated with clearing balances to estimate NICB.¹⁴

¹³ The peer group of the fifty largest bank holding companies is selected based on total deposits.

¹⁴ See companion notice, Federal Reserve Bank Services, elsewhere in today's Federal Register, on the change to the imputed investment income on clearing balances method for 2004. Using the average spread of 35 basis points over the three-month Treasury bill rate, applied to the clearing balance levels and rate assumptions used in the 2004 pricing process, NICB is projected to be $52.7 million.

The method for calculating the financing and equity costs in the PSAF requires determining the appropriate levels of debt and equity to impute and then applying the applicable financing rates. This process requires developing a pro forma priced services balance sheet using actual Reserve Bank assets and liabilities associated with priced services and imputing the remaining elements that would exist if the Reserve Banks' priced services were provided by a private-sector business firm.

The amount of the Reserve Banks' assets that will be used to provide priced services during the coming year is determined using Reserve Bank information on actual assets and projected disposals and acquisitions. The priced portion of mixed-use assets is determined based on the allocation of the related depreciation expense. The priced portion of actual Reserve Bank liabilities consists of balances held by Reserve Banks for clearing priced services transactions (clearing balances), estimated based on historical data, and other liabilities such as accounts payable and accrued expenses.

Long-term debt is imputed only when core clearing balances and long-term liabilities are not sufficient to fund long-term assets or if the interest rate risk sensitivity analysis indicates that estimated risk will exceed a change in cost recovery of more than two percentage points.¹⁵ Short-term debt is imputed only when short-term liabilities and clearing balances not used to fund long-term assets, together, are not sufficient to fund short-term assets. Equity is imputed to meet the FDIC definition of a well-capitalized institution, which is currently 5 percent of total assets and 10 percent of risk-weighted assets.

¹⁵ A portion of clearing balances is used as a funding source for priced services assets. Long-term assets are partially funded from core clearing balances, currently $4 billion. Core clearing balances are considered the portion of the balances that has remained stable over time without regard to the magnitude of actual clearing balances. The PSAF methodology includes an analysis of interest rate risk sensitivity, which compares rate-sensitive assets with rate-sensitive liabilities and measures the effect on cost recovery of a change in interest rates of up to 200 basis points.

1. Financing Rates—Equity financing rates are based on the average of the return on equity (ROE) results of three economic models using data from the BHC model.¹⁶ For simplicity, given that federal corporate tax rates are graduated, state tax rates vary, and various credits and deductions can apply, a specific tax rate is not calculated for Reserve Bank priced services. Instead, the use of a pre-tax ROE captures imputed taxes. The resulting ROE influences the dollar level of the PSAF and Federal Reserve price levels because this is the return a shareholder would expect in order to invest in a private business firm. The use of the pre-tax ROE assumes 100 percent recovery of expenses, including the targeted ROE. The recommended PSAF is, therefore, based on a matching of revenues with actual and imputed costs and imputed profits. Should the pre-tax earnings be less than the targeted ROE, as projected, imputed expenses would be adjusted for the tax savings associated with the adjusted recovery. The imputed tax rate is the median of the rates paid by the BHCs over the past five years adjusted to the extent that BHCs have invested in municipal bonds.

¹⁶ The pre-tax return on equity (ROE) is determined using the results of the comparable accounting earnings model (CAE), the discounted cash-flow model (DCF), and the capital asset pricing model (CAPM). Within the CAPM and DCF models, the ROE is weighted based on market capitalization, and within the CAE model, the ROE calculation is equally weighted. The results of the three models are averaged to impute the PSAF pre-tax ROE. When needed, to impute short- and long-term debt, the debt rates are derived based on the short-term debt and long-term debt elements in the BHC model.

2. Other Costs—The PSAF also includes the estimated priced services-related expenses of the Board of Governors and imputed sales taxes based on Reserve Bank expenses. An assessment for FDIC insurance, when required, is imputed based on current FDIC rates and projected clearing balances held with the Federal Reserve.

B. Discussion—The increase in the 2004 PSAF is primarily due to a significant increase in clearing balances on which investments are imputed and the resulting increase in total assets. Because required imputed equity is based on five percent of total assets, priced services equity and cost of equity increased.

1. Asset Base—The total estimated cost of Federal Reserve assets to be used in providing priced services is reflected in table 14. Total assets have increased $1,704.6 million, or 11.0 percent from 2003. Growth of $1,283.0 million in imputed investments, growth of $131.8 million in imputed reserve requirements, which are based on the level of clearing balances, and an increase of $308.4 million in cash items in process of collection explains the majority of this increase. As shown in table 15, the assets financed through the PSAF have decreased, primarily due to the decrease in prepaid pension costs. Short-term assets funded with short-term payables and clearing balances total $102.0 million. This amount represents a decrease of $1.8 million, or 1.7 percent, from the short-term assets funded in 2003. Long-term assets funded with long-term liabilities, equity, and core clearing balances are projected to total $1,520.6 million. This amount represents a decrease of $16.8 million, or 1.1 percent, from the long-term assets funded in 2003. A decrease of $17.8 million in prepaid pension costs explains the majority of the decrease. The decrease of $15.0 million in furniture and equipment is offset by an increase in bank premises and leasehold improvements and long-term prepayments of $3.9 million and $12.1 million, respectively.

2. Debt and Equity Costs and Taxes—As previously mentioned, core clearing balances are available as a funding source for priced services assets. Table 15 shows that $407.2 million in clearing balances are used to fund priced services assets in 2004. The interest rate sensitivity analysis in table 16 indicates that the ratio of rate-sensitive assets to rate-sensitive liabilities and the effect on cost recovery of an increase in interest rates of 200 basis points produces a decrease in cost recovery of 1.3 percentage points. The established threshold for change to cost recovery is two percentage points; therefore, interest rate risk associated with using these balances is within acceptable levels and no long-term debt is imputed.

Table 17 shows the imputed PSAF elements, the pre-tax ROE, and other required PSAF recoveries for 2003 and proposed for 2004. The significant increase in clearing balances from which the investments are imputed increases total assets. An increase in total assets, and the resulting increase in imputed equity, increases targeted ROE. Although the pre-tax ROE rate decreased from 19.4 percent for 2003 to 18.6 percent for 2004, with increased imputed equity, the pre-tax ROE increased $9.6 million. As indicated previously, the pre-tax ROE is calculated using the combined results of three models. The effective tax rate used in 2004 also decreased to 29.8 percent from 30.4 percent in 2003. Sales taxes decreased $2.8 million from $14.8 million in 2003 to $12.0 million in 2004. Offsetting this is a $1.2 million increase in Board of Governors expenses.

3. Capital Adequacy and FDIC Assessment—As shown in table 14, the amount of equity imputed for the proposed 2004 PSAF is $860.8 million, an increase of $85.2 million from imputed equity of $775.6 million in 2003. As noted above, equity is based on 5 percent of total assets, as required by the FDIC for a well-capitalized institution in its definition for purposes of assessing insurance premiums. In both 2004 and 2003, the capital to risk-weighted asset ratio and the capital to total assets ratio both exceed regulatory guidelines. As a result, no FDIC assessment is imputed for either year.

III. Analysis of Competitive Effect

All operational and legal changes considered by the Board that have a substantial effect on payments system participants are subject to the competitive impact analysis described in the March 1990 policy statement, “The Federal Reserve in the Payments System.” ¹⁷ Under this policy, the Board assesses whether the change would have a direct and material adverse effect on the ability of other service providers to compete effectively with the Federal Reserve in providing similar services because of differing legal powers or constraints or because of a dominant market position deriving from such legal differences. If the change creates such an effect, the Board must further evaluate the change to assess whether its benefits “ such as contributions to payment system efficiency, payment system integrity, or other Board objectives—can be retained while minimizing the adverse effect on competition.

¹⁷ Federal Reserve Regulatory Service (FRRS) 9-1558.

The 2004 fees result in a projected ROE less than the target established using a model that is based on the consolidated results over time of the largest fifty BHCs. To the extent that these BHCs expect a mature declining business, such as check processing, to have the same ROE as the organization as a whole, the Reserve Banks' failure to set fees to achieve the target ROE could adversely affect the ability of other service providers to compete with the Reserve Banks. Based upon discussions with the industry and other anecdotal information, the Board does not believe that BHCs have such an expectation. Moreover, given the current market environment, greater fee increases are not likely to improve the Reserve Banks' cost recovery materially and might even reduce the revenue that the Reserve Banks receive as depository institutions seek lower cost alternatives. Overall, the Board believes that the fee changes and the changes to earnings credits on clearing balances are reasonable.

BILLING CODE 6210-01-P

BILLING CODE 6210-01-C

Electronic Connection Fee Schedule

There are four types of electronic connections through which depository institutions access the Reserve Banks' priced services: FedLine®, FedMail®, FedPhone®, and computer interface (mainframe to mainframe).⁴⁶ The Reserve Banks allocate costs and revenues associated with these electronic connections to the various priced services.

⁴⁶ These connections may also be used to access non-priced services provided by the Reserve Banks. No fee is assessed if a particular connection is used only to access non-priced services.

In 2004, the Reserve Banks are offering a new bundled electronic access package for a monthly fee of $150 that includes one DOS-based FedLine dial connection and one FedLine for the Web institution-level connection with three digital certificates for individual subscriptions. This package supports the Reserve Banks' strategic direction of moving to web-based electronic access, consistent with, and in response to, customers' preferences. The Reserve Banks are increasing the monthly fee for additional DOS-based FedLine dial connections from $75 to $100. This increase, the first since 1993, reflects the cost of maintaining and updating FedLine connectivity. The Reserve Banks are retaining the connection fees for FedLine for the Web access and the other existing connection fees at current levels.

BILLING CODE 6210-01-P

By order of the Board of Governors of the Federal Reserve System, October 22, 2003.
Jennifer J. Johnson,
Secretary of the Board.

[FR Doc. 03-27123 Filed 10-27-03; 8:45 am]

BILLING CODE 6210-01-C